DEPARTMENT OF STATE

[Public Notice 4480]

Department of State Performance Review Board Members (At Large Board)

In accordance with section 4314 (c) (4) of the Civil Service Reform Act of 1978 (Pub. L. 95-454), the Executive Resources Board of the Department of State has appointed the following individuals to the Department of State Performance Review Board (At-Large):

Janice H. Brambilla, Senior Advisor, Office of the Under Secretary for Public Diplomacy and Public Affairs, Department of State;

David S. Mathias, Assistant Legal Advisor, Office of the Legal Advisor, United Nations Affairs, Department of State;

Cathleen E. Lawrence, Executive Director, Bureau of Nonproliferation, Department of State;

Lawrence R. Baer (Outside Member), Dean, School of Professional and Area Studies, Foreign Service Institute, Department of State;

William E. Todd, Controller/Executive Director, Bureau for International Narcotics and Law Enforcement, Department of State;

James L. Millette, Deputy Assistant Secretary, Bureau of Resource Management, Department of State.

Dated: September 5, 2003.
Ruth A. Whiteside,
Acting Director General of the Foreign Service and Director of Human Resources, Department of State.

[FR Doc. 03-23283 Filed 9-11-03; 8:45 am]

BILLING CODE 4710-15-U